DEPARTMENT OF THE TREASURY

Submission for OMB Review; Comment Request

January 13, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 23, 2005 to be assured of consideration.

Departmental Offices/Office of Foreign Assets Control

OMB Number: 1505-01987.

Form Numbers: None.

Type of Review: Extension.

Title: Requirement to Report Information about the Shipment of Rough Diamonds.

Description: The information collection is needed to monitor the integrity of international rough diamond shipments.

Respondents: Business or other for-profit, Individuals or households.

Estimated Number of Respondents: 250.

Estimated Burden Hours Per Respondent: 10 minutes.

Frequency of Response: On occasion.

Estimated Total Reporting Burden: 500 hours.

Clearance Officer: Lois K. Holland, (202) 622-1563, Departmental Offices, Room 11000, 1750 Pennsylvania Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 05-1189 Filed 1-21-05; 8:45 am]

BILLING CODE 4811-16-P se